DEPARTMENT OF AGRICULTURE

Notice of Transfer of Jurisdiction

AGENCY: Forest Service, USDA.

ACTION: Transfer of jurisdiction of certain lands within the boundaries of the Uinta National Forest to the United States Department of Agriculture, Forest Service.

SUMMARY: On March 16, 1999, Shellie Nall, General Supply Specialist, Bureau of Reclamation, signed three Property Vouchers transferring jurisdiction of 315 acres of land within the Ashley National Forest, and 1,852.48 acres of land within the Uinta National Forest to the United States of America, Department of Agriculture, Forest Service.

This action is in compliance with Section 6 of the Dutch John Federal Property Disposition and Assistance Act of 1998 (P.L. 105-326).

Copies of the Property Vouchers are available for public inspection at the Chief's Office, Forest Service, U.S. Department of Agriculture, Auditors Building, 201 14th Street, SW., at Independence Ave., SW., Washington, DC 20250, or the Ashley National Forest, 355 North Vernal Avenue, Vernal, UT 84078.

Dated: June 12, 2000.
Jack G. Troyer,
Deputy Regional Forester, Intermountain Region, USDA Forest Service, 324 25th Street, Ogden, UT 84401, (801) 625-5605.

[FR Doc. 00-15783 Filed 6-22-00; 8:45 am]

BILLING CODE 3410-11-M